FEDERAL COMMUNICATIONS COMMISSION

[CCB/CPD 98-2; DA 03-3392]

Application of Presubscribed Interexchange Carrier Charge to Discontinued Customers

AGENCY: Federal Communications Commission.

ACTION: Notice; termination of proceeding.

SUMMARY: This document provides notice of the termination of a proceeding seeking review and reconsideration of a 1998 Common Carrier Bureau order granting Sprint's request for a declaratory ruling that local exchange carriers cannot charge long distance carriers presubscribed interexchange charges (PICCs) for lines of subscribers whose service has been discontinued by the long distance carriers. It appears that there are no pending requests for further action in this proceeding, and the phase-out of the PICC largely has mooted the issues in this proceeding.

DATES: This proceeding will be terminated effective December 5, 2003, unless the Wireline Competition Bureau receives an opposition to the termination prior to that date.

ADDRESSES: Oppositions to the proceeding termination should be mailed to the Commission's Secretary through the Commission's contractor, Natek, Inc., at 236 Massachusetts Avenue, NE., Suite 110, Washington, DC 20002.

FOR FURTHER INFORMATION CONTACT: Jennifer McKee, Wireline Competition Bureau, Pricing Policy Division, (202) 418-1530.

SUPPLEMENTARY INFORMATION: On May 19, 1998, the Common Carrier Bureau (now the Wireline Competition Bureau) released an order in the above-referenced proceeding granting Sprint's request for a declaratory ruling regarding the application of presubscribed interexchange carrier charges (PICCs) to lines of subscribers whose service has been discontinued by an interexchange carrier (IXC). The Bureau held that, so long as the IXC has notified the local exchange carrier that it has discontinued service to a customer, the IXC is not liable for PICCs on the terminated lines. On October 7, 2003, SBC filed a request to withdraw its application for review of the Bureau's order, and on October 16, 2003, AT&T filed a request to withdraw its petition for clarification of the order. Based on their requests to withdraw, SBC's application for review and AT&T's petition for clarification are dismissed without prejudice. 47 CFR 1.748. Sprint previously withdrew its petition for clarification and reconsideration, and MCI previously withdrew its petition for partial reconsideration of this order, therefore it appears that there are no pending applications for review or petitions for reconsideration or clarification of the Bureau's order. Since the Bureau's release of the above-referenced order, the PICC has been phased out substantially, thus the issues in this proceeding largely are moot. Therefore, the proceeding will be terminated effective December 5, 2003, unless the Wireline Competition Bureau receives an opposition to the termination before that date.

Parties filing oppositions to the termination of this proceeding must file an original and four copies of each filing. The filings should reference the file number of this proceeding, CCB/CPD 98-2. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002.

• The filing hours at this location are 8 a.m. to 7 p.m.

• All hand deliveries must be held together with rubber bands or fasteners.

• Any envelopes must be disposed of before entering the building.

• Commercial overnight mail (other than U.S. Postal Service Express Mail and Priority Mail) must be sent to 9300 East Hampton Drive, Capitol Heights, MD 20743.

• U.S. Postal Service first-class mail, Express Mail, and Priority Mail should be addressed to 445 12th Street, SW., Washington, DC 20554.

• All filings must be addressed to the Commission's Secretary, Office of the Secretary, Federal Communications Commission. Parties are also requested to send a courtesy copy of their oppositions to Jennifer McKee, Pricing Policy Division, Wireline Competition Bureau, Federal Communications Commission. Courtesy copies may also be sent via e-mail to jennifer.mckee@fcc.gov.

Authority: 47 U.S.C. 152, 153, 154, 155, 303, 307, 308, 309, 315, 317; 44 FR 18501, 67 FR 13223, 47 CFR 0.291, 1.749.

Federal Communications Commission.
William F. Maher, Jr.,
Chief, Wireline Competition Bureau.

[FR Doc. 03-27817 Filed 11-4-03; 8:45 am]

BILLING CODE 6712-01-P